ENVIRONMENTAL PROTECTION AGENCY

[FRL-7815-6]

Environmental Laboratory Advisory Board (ELAB) Meeting Dates, and Agenda

AGENCY: Environmental Protection Agency (EPA).

ACTION: Notice of teleconference meetings.

SUMMARY: The Environmental Protection Agency's Environmental Laboratory Advisory Board (ELAB), as previously announced, will have teleconference meetings on October 20, 2004 at 1 p.m. e.s.t.; November 17, 2004 at 1 p.m. e.s.t.; December 15, 2004 at 1 p.m. e.s.t.; and January 19, 2005 at 1 p.m. e.s.t. to discuss the ideas and views presented at the previous ELAB meetings, as well as new business. Items to be discussed by ELAB over these coming meetings include: Expanding the number of laboratories seeking NELAC accreditation; homeland security issues affecting the laboratory community; ELAB support to Agency's Forum on Environmental Measurements (FEM); implementing the performance approach; increasing state participation in NELAC; and follow-up on some of ELAB's past recommendations and issues. In addition to these teleconferences, ELAB will be hosting their next face-to-face meeting on February 2, 2005 at the Sheraton Society Hill in Philadelphia, Pennsylvania.

Written comments on laboratory accreditation issues and/or environmental monitoring issues are encouraged and should be sent to Ms. Lara P. Autry, DFO, U.S. EPA (E243-05), 109 T. W. Alexandar Drive, Research Triangle Park, NC 27709, faxed to (919) 541-4261, or e-mailed to autry.lara@epa.gov. Members of the public are invited to listen to the teleconference calls, and time permitting, will be allowed to comment on issues discussed during this and previous ELAB meetings. Those persons interested in attending should call Lara P. Autry at (919) 541-5544 to obtain teleconference information. The number of lines for the teleconferences, however, are limited and will be distributed on a first come, first serve basis. Preference will be given to a group wishing to attend over a request from an individual.

Paul Gilman,
Assistant Administrator, Office of Research and Development.

[FR Doc. 04-21067 Filed 9-17-04; 8:45 am]

BILLING CODE 6560-50-P